NATIONAL ARCHIVES AND RECORDS ADMINISTRATION

Office of Government Information Services (OGIS)

[NARA 2016-034]

Freedom of Information Act Advisory Committee

AGENCY: National Archives and Records Administration.

ACTION: Charter Renewal of the Freedom of Information Act Advisory Committee. SUMMARY: The National Archives and Records Administration (NARA) is renewing the charter for the Freedom of Information Act (FOIA) Advisory Committee, a Federal advisory committee we established to study the current FOIA landscape across the executive branch and to advise NARA's Office of Government Information Services, the Government's FOIA ombudsman, on improvements to the FOIA.

DATES: We filed the renewed charter on May 20, 2016. It remains in effect for two years from that date, unless otherwise extended.

ADDRESSES: You may access the charter and other information about the FOIA Advisory Committee online at http://www.ogis.archives.gov/foia-advisory-committee.htm.

FOR FURTHER INFORMATION CONTACT: Kate Gastner by phone at 202-741-5770, by mail at National Archives and Records Administration; Office of Government Information Services; 8601 Adelphi Road; College Park, MD 20740-6001, or by email at foia-advisory-committee@nara.gov.

SUPPLEMENTARY INFORMATION: NARA operates the FOIA Advisory Committee in accordance with provisions of the Federal Advisory Committee Act of 1972 (FACA) (5 U.S.C., App. 2) and implementing regulations at 41 CFR 102-3.5, et seq. The FACA formalizes a process for establishing, operating, overseeing, and terminating Federal advisory committees, and we review, at least annually, the need to continue each existing advisory committee. In accordance with the Government in the Sunshine Act (5 U.S.C. 552b(c)), the FOIA Advisory Committee meetings are open to the public, and we announce them in the Federal Register at least 15 days prior to each meeting.

Patrice Murray,
Committee Management Officer.

[FR Doc. 2016-13384 Filed 6-6-16; 8:45 am]

BILLING CODE 7515-01-P